DEPARTMENT OF COMMERCE

National Oceanic and Atmospheric Administration

RIN 0648-XA850

[File No. 16439]

Endangered Species

AGENCY: National Marine Fisheries Service (NMFS), National Oceanic and Atmospheric Administration (NOAA), Commerce.

ACTION: Issuance of permit.

SUMMARY: Notice is hereby given that the New York State Department of Environmental Conservation, 21 South Putt Corners Rd., New Paltz, NY 12561 [Responsible Party: Kathryn Hattala], has been issued a permit to take shortnose sturgeon (Acipenser brevirostrum) for purposes of scientific research.

ADDRESSES: The permit and related documents are available for review upon written request or by appointment in the following offices:

• Permits, Conservation and Education Division, Office of Protected Resources, NMFS, 1315 East-West Highway, Room 13705, Silver Spring, MD 20910; phone (301) 427-8401; fax (301) 713-0376; and

• Northeast Region, NMFS, 55 Great Republic Drive, Gloucester, MA 01930; phone (978) 281-9328; fax (978) 281-9394.

FOR FURTHER INFORMATION CONTACT: Malcolm Mohead or Colette Cairns, (301) 427-8401.

SUPPLEMENTARY INFORMATION: On June 9, 2011, notice was published in the Federal Register (76 FR 33703) that a request for a scientific research permit to take shortnose sturgeon had been submitted by the above-named applicant. The requested permit has been issued under the authority of the Endangered Species Act of 1973, as amended (ESA; 16 U.S.C. 1531 et seq.) and the regulations governing the taking, importing, and exporting of endangered and threatened species (50 CFR parts 222-226).

The Permit Holder is issued a five-year permit to study shortnose sturgeon in the Hudson River Estuary from New York Harbor (RKM 0) to Troy Dam (RKM 245). Gill nets, trammel nets and trawls will be used to capture up to 240 and 2,340 shortnose sturgeon in years one through three and years four and five, respectively. Research activities include: capture; measure, weigh; tag with passive integrated transponder (PIT) tags and Floy tags, if untagged; and sample genetic fin clips. Subsets of fish will also be anesthetized and tagged with acoustic transmitters; have fin rays sampled for age and growth analysis; have gastric contents lavaged for diet analysis; as well as blood samples taken for contaminants. A total of four (4) unintended mortalities are authorized over the life of the permit.

Issuance of this permit, as required by the ESA, was based on a finding that such permit (1) was applied for in good faith, (2) will not operate to the disadvantage of such endangered or threatened species, and (3) is consistent with the purposes and policies set forth in section 2 of the ESA.

Dated: November 28, 2011.
Tammy C. Adams,
Acting Chief, Permits, Conservation and Education Division, Office of Protected Resources, National Marine Fisheries Service.

[FR Doc. 2011-30959 Filed 11-30-11; 8:45 am]

BILLING CODE 3510-22-P